DEPARTMENT OF THE INTERIOR

National Park Service

Notice of Intent to Repatriate Cultural Items in the Possession of the Peabody Museum of Archaeology and Ethnology, Harvard University, Cambridge, MA

AGENCY: National Park Service, Interior.

ACTION: Notice.

Notice is hereby given in accordance with provisions of the Native American Graves Protection and Repatriation Act (NAGPRA), 43 CFR 10.10(a)(3), of the intent to repatriate cultural items in the possession of the Peabody Museum of Archaeology and Ethnology, Harvard University, Cambridge, MA, that meet the definition of “unassociated funerary objects” under Section 2 of the Act.

This notice is published as part of the National Park Service's administrative responsibilities under NAGPRA, 43 CFR 10.2 (c). The determinations within this notice are the sole responsibility of the museum, institution, or Federal agency that has control of these cultural items. The National Park Service is not responsible for the determinations within this notice.

The 624 cultural items are ceramic sherds and vessels; projectile points, flaked chert tools and debitage; gunflint; notched stone; shell objects; a bone awl and disc; drilled bear and beaver teeth; shell, glass, copper, and stone beads; a copper tinkler; a brass ring; metal ornaments; an iron axe; pendants; antler doll; red ochre; paint stones; and stone, wooden, and ceramic pipes.

In 1879, 50 cultural items were donated to the Peabody Museum of Archaeology and Ethnology by Mr. Cowing and F. Larkin. The objects came from an unnamed mound in Cattaraugus County, NY, that was excavated in 1819. The objects are ceramic sherds, projectile points, bifaces, and an iron axe.

Museum records indicate that these objects were recovered from the site of a large mound, 20 feet high and 100 feet in diameter. The mound was located near the Allegheny River in western New York, “40 rods above Indian Council Head.” The site most likely dates to the Late Woodland and Contact periods (A.D. 1000-1700). The presence of iron and iron implements of probable European manufacture suggests a postcontact date (post-A.D. 1500). Other artifacts recovered from this site, including chert projectile points, support a Late Woodland and postcontact date. The Peabody Museum of Archaeology and Ethnology does not have possession of the human remains from this site.

In 1886, 100 cultural items were recovered from Union Spring, NY, and donated to the Peabody Museum of Archaeology and Ethnology by W.W. Adams. The objects are perforated shell beads and tubular shell beads.

Museum records indicate that these objects most likely came from the St. Joseph site in Union Springs. The site most likely dates to the Late Woodland period (A.D. 1000-1600) or later. Other artifacts recovered from the site, but not associated with burials, are stylistically indicative of the Late Woodland period. These objects include stone mortars and ceramics of typical Iroquoian designs. Copper staining on the human remains from the site suggests the use of a shroud pin and therefore an interment date during the Contact or Historic period (post-A.D. 1500). The Peabody Museum of Archaeology and Ethnology does not have possession of the human remains from this burial. The Peabody Museum of Archaeology and Ethnology has possession of human remains from other burials at this site, which are reported in a Notice of Inventory Completion.

In 1889, 102 cultural items were recovered in Avon, NY, by F.W. Putnam, who donated the objects to the Peabody Museum of Archaeology and Ethnology the same year. The objects are a hematite fragment, a piece of graphite, groundstone, a bone disc, ceramic sherds, complete and partial ceramic vessels, and red ochre.

The museum's documentary records indicate that these objects came from a series of excavations led by F.W. Putnam at burial sites in Avon. The exact locations of these excavations are not documented, although two specific sites, the Brush Creek and Fort Hill sites, are described in the field notebook. The sites are thought to be in the vicinity of the Bosley Mill site along Route 15, near Trip Hammer Road, in the southeastern section of Avon. These objects likely came from the Fort Hill site, located on Anson Miller's farm. More precise provenience information is not available. Artifacts recovered with the burials date from the 17th and 18th centuries, and museum information indicates that the objects from these sites most likely date to the Historic period (post-A.D. 1700). The Peabody Museum of Archaeology and Ethnology does not have possession of the human remains from these burials. The Peabody Museum of Archaeology and Ethnology has possession of human remains from other burials at this site, which are reported in a Notice of Inventory Completion.

In 1889, one cultural item consisting of a gunflint was recovered from Avon, NY, and donated to the Peabody Museum of Archaeology and Ethnology by William Nesbit.

Museum records indicate that this object came from a grave in Avon. No additional provenience information is available. This object most likely dates to the Contact period or later (post-A.D. 1500). Firearms first appeared on Native American sites in the eastern United States during the first quarter of the 17th century, and with increasing frequency subsequent to their introduction. The Peabody Museum of Archaeology and Ethnology does not have possession of the human remains from this burial.

In 1903, 208 cultural items were recovered from the Silverheels site in Brant, NY, during a Peabody Museum expedition led by M.R. Harrington and A.C. Parker. The objects include ceramic sherds and vessels; cherts points and flakes; glass, copper, and catlinite beads; an animal skin fragment; shell objects; an antler doll; raccoon bacula; red ochre; and paint stones.

Museum records indicate that these objects were recovered from the Silverheels site in the town of Brant, 1.5 miles east of the village of Irving, on the Cattaraugus Indian Reservation, approximately 2.5 miles upstream of Lake Erie on the Cattaraugus Creek. These objects most likely date to the early Contact period (A.D. 1500-1700). Artifacts recovered from this site including Levanna- and Madison-style projectile points; ceramic vessels with globular bodies, constricted, zoned, incised necks, and castellated rims; and a variety of terra cotta pipes support a date from the early Contact period. Multivariate attribute and statistical analysis of ceramic artifacts from the site indicate that the site represents a single occupation during the early 17th century. The Peabody Museum of Archaeology and Ethnology does not have possession of the human remains from these burials. The Peabody Museum of Archaeology and Ethnology has possession of human remains from other burials at this site, which are reported in a Notice of Inventory Completion.

In 1922, 43 cultural items were donated to the Peabody Museum of Archaeology and Ethnology by J.H. Woods. These objects were collected at an unknown date and consist of a projectile point; bone awl; bone ornament; drilled animal teeth; string of shell beads; and clay, wooden, and stone pipes, including an effigy pipe.

Museum records indicate that these objects came from graves in the Mohawk Valley and a village site in Ithaca, NY. No additional provenience information is available in museum documentation, although information provided during consultation indicates that the objects from Ithaca were from funerary contexts. These objects most likely date to the terminal Late Woodland and Contact periods (A.D. 1300-1700). The projectile point and shell beads are consistent with Late Woodland typologies, and both zoomorphic and anthropomorphic effigy pipes are closely associated with the Late Woodland and Early Contact periods. The Peabody Museum of Archaeology and Ethnology does not have possession of the human remains from these burials.

In 1985, 120 cultural items were donated to the Peabody Museum by William H. Claflin. These objects came from graves in Cayuga and Wyoming Counties, NY. The objects are metal ornaments and pendants; a copper tinkler; stone gorgets; and shell, stone, and glass beads.

The museum's documentary records indicate that these objects came from a series of excavations by C.C. Jones in the 19th century and W.H. Claflin in the 20th century. No site information is recorded, but some of the objects were recovered from the vicinity of Silver Lake in Wyoming County, while others were recovered near Venico in Cayuga County. These objects most likely date to the early Contact period or later (post-A.D. 1600), based on glass beads that were introduced by Europeans as trade items in the late 16th and early 17th centuries, tubular wampum of a more standardized form that usually dates to post-A.D. 1625, and objects of European copper that are common on sites that date to the second quarter of the 16th century and later. The Peabody Museum of Archaeology and Ethnology does not have possession of the human remains from these burials.

Excavation records, museum records, and consultation information indicate that the cultural items described above were removed from specific burials of Native American individuals. Based on the date and the provenience of the cultural items from areas considered to be aboriginal homelands and traditional burial areas of the Iroquois, a reasonable link of shared group identity may be made between these objects and the present-day tribes who represent the Iroquois: the Cayuga Nation of New York, Oneida Nation of New York, Oneida Tribe of Wisconsin, Onondaga Nation of New York, St. Regis Band of Mohawk Indians of New York, Seneca Nation of New York, Seneca-Cayuga Tribe of Oklahoma, Tonawanda Band of Seneca Indians of New York, and Tuscarora Nation of New York.

Based on the above-mentioned information, officials of the Peabody Museum of Archaeology and Ethnology have determined that, pursuant to 43 CFR 10.2(d)(2)(ii), these cultural items are reasonably believed to have been placed with or near individual human remains at the time of death or later as part of the death rite or ceremony and are believed, by a preponderance of the evidence, to have been removed from specific burial sites of Native American individuals. Officials of the Peabody Museum of Archaeology and Ethnology also have determined that, pursuant to 43 CFR 10.2(e), there is a relationship of shared group identity that can be reasonably traced between these unassociated funerary objects and the Cayuga Nation of New York, Oneida Nation of New York, Oneida Tribe of Wisconsin, Onondaga Nation of New York, St. Regis Band of Mohawk Indians of New York, Seneca Nation of New York, Seneca-Cayuga Tribe of Oklahoma, Tonawanda Band of Seneca Indians of New York, and the Tuscarora Nation of New York.

This notice has been sent to officials of the Cayuga Nation of New York; Delaware Nation, Oklahoma; Delaware Tribe of Indians, Oklahoma; Oneida Nation of New York; Oneida Tribe of Wisconsin; Onondaga Nation of New York; St. Regis Band of Mohawk Indians of New York; Seneca Nation of New York; Seneca-Cayuga Tribe of Oklahoma; Stockbridge-Munsee Community of Mohican Indians of Wisconsin; Tonawanda Band of Seneca Indians of New York; Tuscarora Nation of New York; and the nonfederally recognized Mohawk Nation Council of Chiefs. Representatives of any other Indian tribe that believes itself to be culturally affiliated with these unassociated funerary objects should contact Patricia Capone, Repatriation Coordinator, Peabody Museum of Archaeology and Ethnology, Harvard University, 11 Divinity Avenue, Cambridge, MA 02138, telephone (617) 496-3702, before November 5, 2001. Repatriation of these unassociated funerary objects to the Cayuga Nation of New York, Oneida Nation of New York, Oneida Tribe of Wisconsin, Onondaga Nation of New York, St. Regis Band of Mohawk Indians of New York, Seneca Nation of New York, Seneca-Cayuga Tribe of Oklahoma, Tonawanda Band of Seneca Indians of New York, and the Tuscarora Nation of New York may begin after that date if no additional claimants come forward.

Dated: July 3, 2001.
John Robbins,
Assistant Director, Cultural Resources Stewardship and Partnerships.

[FR Doc. 01-24965 Filed 10-4-01 ; 8:45 am]

BILLING CODE 4310-70-F